DEPARTMENT OF COMMERCE

Foreign-Trade Zones Board

[Docket 53-2008]

Foreign-Trade Zone 242—Boundary County, ID; Application for Subzone; Hoku Materials, Inc.; Notice of Hearing and Extension of Comment Period

A public hearing will be held on the application for subzone status at the Hoku Materials, Inc., facility in Pocatello, Idaho, submitted by Boundary County, ID, grantee of FTZ 242 (73 FR 59597, 10/9/08). Because the specific date of the hearing has yet to be determined, the comment period (which would have otherwise closed on December 8, 2008) will be extended to 15 days following the hearing, in order to allow interested parties additional time in which to comment.

Further notice will be given once the dates of the hearing and the close of the comment period are set. For further information, contact Diane Finver at Diane_Finver@ita.doc.gov or (202) 482-1367.

Dated: December 2, 2008.
Andrew McGilvray,
Executive Secretary.

[FR Doc. E8-28865 Filed 12-4-08; 8:45 am]

BILLING CODE 3510-DS-P